DEPARTMENT OF THE INTERIOR

Fish and Wildlife Service

[FWS-R4-NWRS-2019-N160; FXRS12610400000-201-FF04RFLX00; 40136-1265-0000-S3]

Arthur R. Marshall Loxahatchee National Wildlife Refuge, Palm Beach County, FL; Boundary Adjustment

AGENCY: Fish and Wildlife Service, Interior.

ACTION: Notice.

SUMMARY: We, the U.S. Fish and Wildlife Service, have adjusted the acquisition boundary line of a section of Arthur R. Marshall Loxahatchee National Wildlife Refuge, to reflect an approved action from 2015.

ADDRESSES: Accessing Documents: You may review maps depicting the boundary revision by either of the following methods.

• Internet: https://http://www.fws.gov/refuge/ARM_Loxahatchee/map.html.

• In-Person Inspection: Arthur R. Marshall Loxahatchee National Wildlife Refuge Headquarters, 10211 Lee Road, Boynton Beach, FL 33473. (Please call 561-735-6022 to make an appointment.)

FOR FURTHER INFORMATION CONTACT: Rolf Olson, Project Leader, 561-735-6022.

SUPPLEMENTARY INFORMATION: We, the U.S. Fish and Wildlife Service (Service), have adjusted the approved acquisition boundary line surrounding a section of Arthur R. Marshall Loxahatchee National Wildlife Refuge (Refuge), to reflect an approved action from 2015. Specifically, the South Florida Water Management District and Service agreed to exchange two parcels of land adjacent to the Refuge in western Palm Beach County. The land-for-land exchange was finalized on January 11, 2018.

Background

The National Wildlife Refuge System Administration Act of 1966, as amended by the National Wildlife Refuge System Improvement Act of 1997 (Administration Act; 16 U.S.C. 668dd et seq.) provides authority for the Service to manage national wildlife refuges across the country. In accordance with the Administration Act, refuges are managed to fulfill the mission of the National Wildlife Refuge System; fulfill the individual purpose of each refuge; and maintain the biological integrity, diversity, and environmental health of the refuge system.

According to the Fish and Wildlife Coordination Act, national wildlife refuges “. . . shall be administered by [the Secretary of the Interior] directly or in accordance with cooperative agreements . . . and in accordance with such rules and regulations for the conservation, maintenance, and management of wildlife, resources thereof, and its habitat thereon . . . .” (16 U.S.C. 664). Further, the Migratory Bird Conservation Act of 1929, 45 Stat. 1222, states that a refuge is “. . . . for use as an inviolate sanctuary, or for any other management purpose, for migratory birds.” (16 U.S.C. 715d).

The Refuge is the last remnant of the once vast northern Everglades ridge and slough landscape.

The Act of June 30, 1948, 62 Stat. 1171, 1176, authorizing the construction of the Central and Southern Florida Flood Control Project, and the Fish and Wildlife Coordination Act of March 10, 1934, 48 Stat. 401, amended by the Act of August 14, 1946, 60 Stat. 1080, all authorized the establishment of the Refuge, which took place on January 1, 1951. Notice of the Refuge boundary was published in the Federal Register on October 21, 1955 (20 FR 7950).

The Refuge was created by two agreements entered into by the Department of the Interior. The first agreement is a General Plan with the Florida Game and Fresh Water Fish Commission (now the Florida Fish and Wildlife Conservation Commission) which permitted state Water Conservation Area (WCA)-1 to be used by the Service for the national migratory bird management program. The second agreement is a long-term (50-year) License Agreement between the Service and the Central and Southern Florida Flood Control District (now SFWMD) which provided for the use of WCA-1 by the Service “as a Wildlife Management Area, to promote the conservation of wildlife, fish, and game, and for other purposes embodying the principles and objective of planned multiple land use.” The Service manages the area as a national wildlife refuge (NWR) under the terms of the License Agreement and regulations governing the NWR system at Title 50, Code of Federal Regulations.

In 2002, the License Agreement was revised and renewed for an additional 50 years. On February 26, 2018, the Service and SFWMD entered into a renegotiated 20-year license agreement.

Currently, the size of the licensed lands, referred to as the Refuge Interior, is approximately 141,374 acres. In addition to the “Refuge Interior,” the USFWS owns 3,814.50 acres in fee title to the east. This acreage is sub-divided into three management impoundments (A, B, and C), a 400-acre cypress swamp, and the recently added 2,586-acre Strazzulla Marsh (see below). In total, the Refuge currently includes 145,188 acres.

Introduction

In 2015, the Service developed an environmental assessment under which the Service would exchange a Service-owned property, Compartment D, with a State of Florida-owned property, Strazzulla Marsh. Both parcels are adjacent to WCA-1, the northern limit of the greater Everglades ecosystem. The purpose of the exchange was to bring Strazzulla Marsh, which is the last remaining sawgrass habitat in the eastern Everglades and one of the few remaining sawgrass marshes adjacent to the coastal ridge, into permanent protection as part of the Refuge. At the same time, the SFWMD obtained Compartment D for use as part of the Everglades Restoration Strategies Initiative, to improve overall water quality in the Everglades Protection Area.

When the Congressional Appropriations Committee approved the proposed land exchange, it requested that the Refuge acquisition boundary be formally adjusted to reflect the changes in land ownership. This Notice satisfies this request and ensures that the current Refuge boundary is properly recorded.

The Service today announces that it has adjusted the Refuge boundary lines to reflect this approved action (See Appendices), which removes the 1,327-acre Compartment D parcel, which is now owned by the State of Florida, from the Refuge acquisition boundary. This action also brings a portion of Strazzulla Marsh, which was acquired by the United States in exchange for Compartment D, within the approved Refuge acquisition boundary.

Authority

This notice is published under the authority of the Improvement Act, Public Law 105-57.

Leopoldo Miranda-Castro,
Regional Director, U.S. Fish and Wildlife Service, Atlanta, GA.

[FR Doc. 2021-18013 Filed 8-20-21; 8:45 am]

BILLING CODE 4333-15-P